DEPARTMENT OF HOMELAND SECURITY

Coast Guard

[Docket # USCG-2008-0369]

Area Maritime Security Advisory Committee (AMSC), Boston, MA

AGENCY: Coast Guard, DHS.

ACTION: Solicitation for Membership.

SUMMARY: This notice requests individuals interested in serving on the Area Maritime Security Committee (AMSC) Boston, MA submit their applications for membership to the Captain of the Port (COTP) Boston, MA.

DATES: Requests for membership should reach the U.S. Coast Guard Captain of the Port Boston, MA by July 23, 2008.

ADDRESSES: Applications for membership should be submitted to the Captain of the Port at the following address: Captain of the Port Boston, U.S. Coast Guard Sector Boston, Contingency Planning and Force Readiness Department, 427 Commercial St., Boston, MA 02109.

FOR FURTHER INFORMATION CONTACT: For questions about submitting an application or about the AMSC in general, contact Mr. Phillip Smith, 617-223-3008.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these AMSCs from the Federal Advisory Committee Act (FACA), Public Law 92-436, 86 Stat. 470 (5 U.S.C. App. 2). The AMSCs shall assist the Captain of the Port in the development, review, update, and exercising of the AMS Plan for their area of responsibility. Such matters may include, but are not limited to: identifying critical port infrastructure and operations; identifying risks (threats, vulnerabilities, and consequences); determining mitigation strategies and implementation methods; developing strategies to facilitate the recovery of the MTS after a Transportation Security Incident; developing and describing the process to continually evaluate overall port security by considering consequences and vulnerabilities, how they may change over time, and what additional mitigation strategies can be applied; and providing advice to, and assisting the Captain of the Port in developing and maintaining the Area Maritime Security Plan.

AMSC Membership

Members of the AMSC should have at least 5 years of experience related to maritime or port security operations. The Boston AMSC has 29 members. We are seeking to fill 6 vacancies with this solicitation. Applicants may be required to pass an appropriate security background check prior to appointment to the Committee. Members' term of office will be for 5 years; however, a member is eligible to serve additional terms of office. Members will not receive any salary or other compensation for their service on the AMSC. In support of the USCG policy on gender and ethnic diversity, we encourage qualified women and members of minority groups to apply.

Request for Applications

Those seeking membership are not required to submit formal applications to the local Captain of the Port, however, because we do have an obligation to ensure that a specific number of members have the prerequisite maritime security experience, we encourage the submission of resumes highlighting experience in maritime and security industries.

Dated: May 15, 2008.
Gail P. Kulisch,
Captain, U.S. Coast Guard, Captain of the Port/Federal Maritime Security Coordinator Commander, Coast Guard Sector Boston, MA.

[FR Doc. E8-14051 Filed 6-20-08; 8:45 am]

BILLING CODE 4910-15-P